DEPARTMENT OF LABOR

Office of the Secretary

National Advisory Committee for Labor Provisions of U.S. Free Trade Agreements; Notice of Open Meeting

AGENCY: Bureau of International Labor Affairs, U.S. Department of Labor.

ACTION: Notice of open meeting, September 27, 2012.

SUMMARY: Pursuant to the Federal Advisory Committee Act (FACA), as amended, 5 U.S.C. App. 2, the Office of Trade and Labor Affairs (OTLA) gives notice of a meeting of the National Advisory Committee for Labor Provisions of U.S. Free Trade Agreements (“Committee” or “NAC”), which was established by the Secretary of Labor. The purpose of the meeting is to discuss the implementation of the labor provisions of Free Trade Agreements (FTAs), technical cooperation programs and planning, and a Subcommittee's report regarding the North American Agreement on Labor Cooperation.

DATES: The Committee will meet on Thursday, September 27, 2012 from 9:30 a.m. to 5 p.m.

ADDRESSES: The Committee will meet at the U.S. Department of Labor, 200 Constitution Avenue NW., Deputy Undersecretary's Conference Room, Washington, DC 20210. Mail comments, views, or statements in response to this notice to Paula Church Albertson, Office of Trade and Labor Affairs, Bureau of International Labor Affairs, U.S. Department of Labor, 200 Constitution Avenue NW., Room S-5004, Washington, DC 20210; phone (202) 693-4789; fax (202) 693-4784 (this is not a toll free number).

FOR FURTHER INFORMATION CONTACT: Paula Church Albertson, Designated Federal Official, Office of Trade and Labor Affairs, Bureau of International Labor Affairs, U.S. Department of Labor, 200 Constitution Avenue NW., Room S-5004, Washington, DC 20210; phone (202) 693-4789.

Individuals with disabilities wishing to attend the meeting should contact Ms. Albertson no later than September 20, 2012, to obtain appropriate accommodations.

SUPPLEMENTARY INFORMATION: NAC meetings are open to the public on a first-come, first-served basis, as seating is limited. Attendees must present valid identification and will be subject to security screening to access the Department of Labor for the meeting.

Agenda: Agenda items will include an update and discussion on the implementation of the labor provisions of FTAs, technical assistance efforts in FTA countries, and a review and discussion by the full Committee of the additional work done by the Subcommittee on the North American Agreement on Labor Cooperation.

Public Participation: Written data, views, or comments for consideration by the NAC on the agenda listed above should be submitted to Paula Church Albertson at the address listed above. Submissions received by September 20, 2012 will be provided to Committee members and will be included in the record of the meeting. Requests to make oral presentations to the Committee may be granted as time permits.

Signed at Washington, DC, the 5th day of September 2012.
Carol Pier,
Acting Deputy Undersecretary, International Affairs.

[FR Doc. 2012-22433 Filed 9-11-12; 8:45 am]

BILLING CODE 4510-28-P